DEPARTMENT OF COMMERCE

International Trade Administration

[A-523-808]

Certain Steel Nails From the Sultanate of Oman: Preliminary Results of the First Five-Year Sunset Review of the Antidumping Duty Order

AGENCY: Enforcement and Compliance, International Trade Administration, Department of Commerce.

SUMMARY: On June 1, 2020, the Department of Commerce (Commerce) initiated the first sunset review of the antidumping duty (AD) order on certain steel nails (steel nails) from the Sultanate of Oman (Oman). Commerce determined that it was appropriate to conduct a full review. Commerce preliminarily finds that revocation of this AD order would be likely to lead to continuation or recurrence of dumping at the levels indicated in the “Preliminary Results of Review” section of this notice.

DATES: Applicable September 28, 2020.

FOR FURTHER INFORMATION CONTACT: Ian Hamilton, AD/CVD Operations, Office II, Enforcement and Compliance, International Trade Administration, U.S. Department of Commerce, 1401 Constitution Avenue NW, Washington, DC 20230; telephone: (202) 482-4798.

SUPPLEMENTARY INFORMATION:

Background

On June 1, 2020, Commerce initiated the first sunset review of the AD order on steel nails from Oman pursuant to section 751(c) of the Tariff Act of 1930, as amended (the Act).¹ On June 9, 2020, Commerce received a notice of intent to participate from Mid Continent Steel & Wire, Inc. (Mid Continent) within the deadline specified in 19 CFR 351.218(d)(1)(i).² On July 1, 2020, Commerce received substantive responses from Mid Continent ³ and Oman Fasteners LLC (Oman Fasteners) ⁴ within the 30-day deadline specified in 19 CFR 351.218(d)(3)(i). On July 31, 2020, Commerce notified the U.S. International Trade Commission (ITC) that it received an adequate substantive response from the respondent interested party.⁵

¹ See Initiation of Five-Year (Sunset) Reviews, 85 FR 33088 (June 1, 2020).

² See Mid Continent's Letter, “Certain Steel Nails from the Republic of Korea, the Sultanate of Oman, Malaysia, the Republic of China (“Taiwan”), and the Socialist Republic of Vietnam: Notice of Intent to Participate in Reviews,” dated June 9, 2020.

³ See Mid Continent's Letter, “Certain Steel Nails from Oman: Request for Extension of Time to Submit Rebuttal Comments on Oman Fasteners LLC's Substantive Response to Notice of Initiation,” dated July 6, 2020.

⁴ See Oman Fastener's Letter, “Certain Steel Nails from Oman; 1st Sunset Review Substantive Response to Notice of Initiation,” dated July 1, 2020.

⁵ See Commerce's Letter, “Full Sunset Review of A-523-808, Steel Nails from Oman Order,” dated July 31, 2020.

Scope of the Order

The merchandise covered by this order is nails having a nominal shaft length not exceeding 12 inches.⁶ Merchandise covered by the order is currently classified under the Harmonized Tariff Schedule of the United States (HTSUS) subheadings 7317.00.55.02, 7317.00.55.03, 7317.00.55.05, 7317.00.55.07, 7317.00.55.08, 7317.00.55.11, 7317.00.55.18, 7317.00.55.19, 7317.00.55.20, 7317.00.55.30, 7317.00.55.40, 7317.00.55.50, 7317.00.55.60, 7317.00.55.70, 7317.00.55.80, 7317.00.55.90, 7317.00.65.30, 7317.00.65.60 and 7317.00.75.00. Nails subject to this order also may be classified under HTSUS subheadings 7907.00.60.00, 8206.00.00.00 or other HTSUS subheadings. While the HTSUS subheadings are provided for convenience and customs purposes, the written description of the scope of this order is dispositive.⁷

⁶ The shaft length of certain steel nails with flat heads or parallel shoulders under the head shall be measured from under the head or shoulder to the tip of the point. The shaft length of all other certain steel nails shall be measured overall.

⁷ For a complete description of the scope of the order, see Memorandum, “Decision Memorandum for Preliminary Results of the First Sunset Review of Certain Steel Nails from the Sultanate of Oman,” dated concurrently with, and hereby adopted by this notice (Preliminary Decision Memorandum).

Analysis of Comments Received

All issues raised for the preliminary results of this full sunset review are addressed in the Preliminary Decision Memorandum.⁸ The issues discussed in the Preliminary Decision Memorandum are the likelihood of continuation or recurrence of dumping and the magnitude of the margins of dumping likely to prevail if this AD order were revoked.⁹ The Preliminary Decision Memorandum is a public document and is on file electronically via Enforcement and Compliance's Antidumping and Countervailing Duty Centralized Electronic Service System (ACCESS). ACCESS is available to registered users at http://access.trade.gov. In addition, a complete version of the Preliminary Decision Memorandum can be accessed directly on the internet at http://enforcement.trade.gov/frn/. The signed and electronic versions of the Preliminary Decision Memorandum are identical in content.

⁸ Id.

⁹ Id.

Preliminary Results of Review

Pursuant to sections 752(c) of the Act, we determine that revocation of the AD order on steel nails from Oman would be likely to lead to continuation or recurrence of dumping at weighted average margins up to 9.10 percent.

Interested parties may submit case briefs no later than 30 days after the date of publication of the preliminary results of this full sunset review, in accordance with 19 CFR 351.309(c)(1)(i). Rebuttal briefs, which must be limited to issues raised in the case briefs, may be filed no later than seven days after the time limit for filing case briefs in accordance with 19 CFR 351.309(d). Note that Commerce has temporarily modified certain of its requirements for serving documents containing business proprietary information, until further notice.¹⁰ Any interested party may request a hearing within 30 days of publication of this notice in accordance with 19 CFR 351.310(c). If a request for a hearing is made, Commerce intends to hold the hearing at a time and date to be determined. Commerce will issue a notice of final results of this full sunset review, which will include the results of its analysis of issues raised in any such comments, no later than January 27, 2021.

¹⁰ See 19 CFR 351.309; see also 19 CFR 351.303 (for general filing requirements); Temporary Rule Modifying AD/CVD Service Requirements Due to COVID-19, 85 FR 17006 (March 26, 2020) (Temporary Rule); and Temporary Rule Modifying AD/CVD Service Requirements Due to COVID-19; Extension of Effective Period, 85 FR 41363 (July 10, 2020).

This five-year sunset review and notice are in accordance with sections 751(c), 752(c), and 777(i)(1) of the Act and 19 CFR 351.218(f)(1).

Dated: September 21, 2020.
Jeffrey I. Kessler,
Assistant Secretary for Enforcement and Compliance.

Appendix

List of Topics Discussed in the Preliminary Decision Memorandum

I. Summary

II. History of the Order

III. Background

IV. Scope of the Order

V. Discussion of the Issues

A. Legal Framework

i. Likelihood of Continuation of Recurrence of Dumping

ii. Magnitude of the Margin Likely to Prevail

VI. Recommendation

[FR Doc. 2020-21365 Filed 9-25-20; 8:45 am]

BILLING CODE 3510-DS-P